NUCLEAR REGULATORY COMMISSION

[NRC-2016-0101]

Superseded or Outdated Generic Communications

AGENCY: Nuclear Regulatory Commission.

ACTION: Generic communications; withdrawal.

SUMMARY: The U.S. Nuclear Regulatory Commission (NRC) is withdrawing selected generic communications because their guidance no longer provides useful information, their guidance is superseded by updated guidance, or the information can be more effectively made available to interested stakeholders by other means.

DATES: The effective date of the withdrawals is October 25, 2016.

ADDRESSES: Please refer to Docket ID NRC-2016-0101 when contacting the NRC about the availability of information regarding this document. You may obtain publicly-available information related to this document using any of the following methods:

• Federal Rulemaking Web site: Go to http://www.regulations.gov and search for Docket ID NRC-2016-0101. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced is provided the first time that it is mentioned in this document.

• NRC's PDR: You may examine and purchase copies of public documents at the NRC's PDR, Room O1-F21, One White Flint North, 11555 Rockville Pike, Rockville, Maryland 20852.

FOR FURTHER INFORMATION CONTACT: Angela M. Baxter, Office of Nuclear Reactor Regulation, U.S. Nuclear Regulatory Commission, Washington, DC 20555-0001; telephone: 301-415-2976; email: Angela.Baxter@nrc.gov.

SUPPLEMENTARY INFORMATION:

Discussion

A. General Information

The NRC performs periodic reviews of generic communications and withdraws them when they no longer provide useful information or are superseded by technological innovations or updated guidance. A withdrawal includes the original generic communication and any supplements or revisions. The NRC is currently publishing withdrawals of generic communications on a quarterly basis.

Withdrawal of the original generic communication and supplements, if applicable, will not affect the public's ability to obtain this information. The original generic communication and supplements will remain accessible through ADAMS and the NRC's generic communications Web site. The NRC's generic communication Web site will be updated to reflect the generic communications status as withdrawn. The generic communications Web site is accessible at http://www.nrc.gov/reading-rm/doc-collections/gen-comm/.

B. Withdrawals of Generic Communications

The following generic communications, by category, are withdrawn.

1. NRC Requests for Scheduling and Licensing Request Information

This class of generic communications includes NRC requests for licensing action estimates, scheduling of acceptance reviews to determine budget, and requests for advance notice to pursue license renewals. This class of generic communications are routine correspondence from the NRC requesting licensees, on a voluntary basis, to submit information to assist in planning and budgeting resources. The submittal of this information is strictly voluntary. No specific action or written response is required. After the voluntary submittal period for this class of communication has expired, the document is no longer needed and, in most cases, has been superseded by a new request for the next fiscal year or time period. Therefore, the NRC is withdrawing the following generic communications:

• Administrative Letter (AL) 1998-03, “Operating Reactor Licensing Action Estimates,” May 6, 1998 (ADAMS Accession No. ML031110198);

• AL 1999-02, “Operating Reactor Licensing Action Estimates,” June 3, 1999 (ADAMS Accession No. ML031110137);

• Regulatory Issue Summary (RIS) 2000-04, “Operating Reactor Licensing Action Estimates,” March 16, 2000 (ADAMS Accession No. ML003687730);

• RIS 2001-08, “Operating Reactor Licensing Action Estimates,” April 2, 2001 (ADAMS Accession No. ML010880474);

• RIS 2001-21, “Licensing Action Estimates for Operating Reactors,” November 16, 2001 (ADAMS Accession No. ML012840123);

• RIS 2014-13, “Planned Licensing Action Submittals for all Power Reactor Licensees,” December 17, 2014 (ADAMS Accession No. ML14329A165);

• RIS 2008-01, “Process for Scheduling Acceptance Reviews Based on Notification of Applicant Submission Dates for Early Site Permits, Combined Licenses and Design Certifications and Process for Determining Budget Needs for Fiscal Year 2010,” January 10, 2008 (ADAMS Accession No. ML080030011);

• RIS 2009-03, “Process for Scheduling Acceptance Reviews of New Reactor Licensing Applications After April 2009 and Process for Determining Budget Needs For Fiscal Year 2011,” February 12, 2009 (ADAMS Accession No. ML083260416);

• RIS 2010-01, “Process for Scheduling Acceptance Reviews of New Reactor Licensing Applications and Process for Determining Budget Needs for Fiscal Year 2012,” February 3, 2010 (ADAMS Accession No. ML093230517);

• RIS 2010-03, “Licensing Submittal Information for Small Modular Reactor Designs,” February 25, 2010 (ADAMS Accession No. ML100260855);

• RIS 2010-10, “Process for Scheduling Acceptance Reviews of New Reactor Licensing Applications and Process for Determining Budget Needs for Fiscal Year 2013,” November 15, 2010 (ADAMS Accession No. ML102720901);

• RIS 2011-02, “Licensing Submittal Information and Design Development Activities for Small Modular Reactor Designs,” February 2, 2011 (ADAMS Accession No. ML103260128);

• RIS 2012-12, “Licensing Submittal Information and Design Development Activities for Small Modular Reactor Designs,” December 28, 2012 (ADAMS Accession No. ML12319A181);

• RIS 2013-08, “Process for Scheduling Acceptance Reviews of New Reactor Licensing and Design Certification Applications and Process for Determining Budget Needs for Fiscal Year 2016,” May 28, 2013 (ADAMS Accession No. ML13077A148);

• RIS 2013-18, “Licensing Submittal Information and Design Development Activities for Small Modular Reactor Designs,” November 15, 2013 (ADAMS Accession No. ML13263A227);

• RIS 2000-20, “Importance of Industry Providing NRC Advance Notice of Intent to Pursue License Renewal,” November 14, 2000 (ADAMS Accession No. ML003752145); and

• RIS 2003-02, “Importance of Giving NRC Advance Notice of Intent to Pursue License Renewal,” February 3, 2003 (ADAMS Accession No. ML030340042).

2. Generic Communications Withdrawn Because the Information Is Superseded, Out-Of-Date, No Longer Needed, or Being Provided to Interested Stakeholders in a Different Manner

• RIS 2002-08, “Availability of the Topical Report Program Description and Status on Staff Reviews on the NRC's Web site,” dated May 22, 2002 (ADAMS Accession No. ML012760489), is withdrawn because this RIS informed industry that the publication of NUREG-0390, “Topical Report Review Status,” was being discontinued and all information contained within the NUREG would be available on the NRC's Web site, http://www.nrc.gov/about-nrc/regulatory/licensing/topical-reports.html. This RIS is being withdrawn because the information within the NUREG has been replaced by technological innovations and is available electronically.

• Circular 1980-18, “10 CFR 50.59 [§ 50.59 of title 10 of the Code of Federal Regulations, “Changes, tests, and experiments”] Safety Evaluations for Changes to Radioactive Waste Treatment Systems,” dated August 22, 1980 (ADAMS Accession No. ML103420467), is withdrawn because the information is no longer applicable following the NRC rulemaking (65 FR 53613; October 4, 1999) that went into effect on March 13, 2001.

• The class of communications in reference to occupational dose or dose equivalent are withdrawn because the information contained within each RIS has been consolidated into the guidance in Regulatory Guide 8.40, “Methods for Measuring Effective Dose Equivalent from External Exposure,” dated July 31, 2010 (ADAMS Accession No. ML100610534). Therefore, these generic communications are being withdrawn:

○ RIS 2002-06, “Evaluating Occupational Dose for Individuals Exposed to NRC-Licensed Material and Medical X-Rays,” April 16, 2002 (ADAMS Accession No. ML021080436);

○ RIS 2003-04, “Use of the Effective Dose Equivalent in Place of the Deep Dose Equivalent in Dose Assessments,” February 13, 2003 (ADAMS Accession No. ML030370122);

○ RIS 2004-01, “Method for Estimating Effective Dose Equivalent from External Radiation Sources Using Two Dosimeters,” February 17, 2004 (ADAMS Accession No. ML040420042); and

○ RIS 2009-09, “Use of Multiple Dosimetry and Compartment Factors in Determining Effective Dose Equivalent from External Radiation Exposures, July 13, 2009 (ADAMS Accession No. ML082320040).

• GL 1989-17, “Planned Administrative Changes to the NRC Operator Licensing Written Exam Process,” September 6, 1989 (ADAMS Accession No. ML031140236), is withdrawn because the eligibility requirements for taking the generic fundamentals examination section has been incorporated into Revision 10 of NUREG-1021, “Operator Licensing Examination Standards for Power Reactors,” December 31, 2014 (ADAMS Accession No. ML14352A297).

Dated at Rockville, Maryland, this 19th day of October, 2016.
For the Nuclear Regulatory Commission.
Sheldon Stuchell,
Chief, Generic Communications Branch, Division of Policy and Rulemaking, Office of Nuclear Reactor Regulation.

[FR Doc. 2016-25750 Filed 10-24-16; 8:45 am]

BILLING CODE 7590-01-P